DEPARTMENT OF COMMERCE

International Trade Administration

[Application No. 94-7A007]

Export Trade Certificate of Review

ACTION: Notice of issuance of an Amended Export Trade Certificate of Review to Florida Citrus Exports, L.C. (“FCE”), Application No. 94-7A007.

SUMMARY: The Secretary of Commerce, through the Office of Trade and Economic Analysis (“OTEA”), issued an Export Trade Certificate of Review to FCE on July 12, 2021.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

FCE's Export Trade Certificate of Review was amended as follows:

1. Added the following entity as a new Member of the Certificate within the meaning of section 325.2(1) of the Regulations (15 CFR 325.2(1)):

○ Heller Brothers Packing Corp., Winter Garden, Florida

2. Removed the following entities as Members of the Certificate:

○ Hogan and Sons, Inc., Vero Beach, Florida

○ Leroy E. Smith's Sons, Inc., Vero Beach, Florida

○ Seald Sweet LLC, Vero Beach, Florida

Updated list of Members (within the meaning of section 325.2(l) of the Regulations (15 CFR 325.2(l)):

Egan Fruit Packing, LLC, Ft. Pierce, Florida

Golden River Fruit Co., Vero Beach, Florida

Heller Brothers Packing Corp., Winter Garden, Florida

Indian River Exchange Packers, Inc., Vero Beach, Florida

The Packers of Indian River, Ltd., Ft. Pierce, Florida

Premier Citrus Marketing, LLC, Vero Beach, Florida

River One International Marketing, Inc., Vero Beach, Florida

Riverfront Packing Co. LLC, Vero Beach, Florida

The effective date of the amended certificate is April 14, 2021, the date on which FCE's application to amend was deemed submitted.

Dated: July 23, 2021.
Joseph Flynn,
Director, Office of Trade and Economic Analysis, International Trade Administration, U.S. Department of Commerce.

[FR Doc. 2021-16074 Filed 7-27-21; 8:45 am]

BILLING CODE 3510-DR-P